POSTAL SERVICE

39 CFR Part 111

Machinable Parcel Testing Changes

AGENCY: Postal Service.

ACTION: Proposed rule.

SUMMARY: The Postal Service proposes revisions to the Domestic Mail Manual (DMM) that would centralize the processing of requests for parcel testing. Such testing is requested to determine if the parcels can be successfully processed on bulk mail center (BMC) parcel sorters when they do not conform to the general machinability criteria in the DMM. Under this proposal parcel testing would no longer be performed by the BMC manager. It would be performed by the Manager, BMC Operations, USPS Headquarters.

DATES: Submit comments on or before March 22, 2004.

ADDRESSES: Mail or deliver written comments to the Manager, Mailing Standards, U.S. Postal Service, 1735 N Lynn Street, Room 3025, Arlington, VA 22209-6038. Copies of all written comments will be available for inspection and photocopying between 9 a.m. and 4 p.m., Monday through Friday, at Postal Service Headquarters Library, 475 L'Enfant Plaza, SW., 11 Floor N, Washington, DC. Comments may be submitted via fax to 703-292-4058, ATTN: Obataiye B. Akinwole or via e-mail to obataiye.b.akinwole@usps.gov.

FOR FURTHER INFORMATION CONTACT: Obataiye B. Akinwole, 703-292-3643.

SUPPLEMENTARY INFORMATION:

Background

Under current Postal Service standards, a mailer may submit a request for testing of parcels to a destinating BMC plant manager. The BMC plant manager may authorize the mailer to enter such parcels as machinable parcels rather than as irregular parcels if the parcels are tested on BMC parcel sorters and determined by the manager to be machinable. The parcels must be properly labeled, entered at a post office within the service area of the authorizing BMC, and bear delivery addresses located within the service area of the authorizing BMC.

The Postal Service maintains that system-wide consistency would be achieved if exception requests are processed at one central location rather than at each BMC. This change is in line with the Postal Service's obligation to ensure prompt, efficient, reliable responses to customer needs.

Proposed Changes

This proposal would revise the DMM standards for testing parcels that do not conform to the general machinability criteria for machinable parcels. Under this proposal, mailers would send requests for testing to the manager, BMC Operations, USPS Headquarters for a determination of machinability. The procedure for testing parcels would ensure that customer expectations of consistency across postal operations are met. The procedure also would remove the processing of requests for testing from BMCs and enable BMC Operations at USPS Headquarters to ensure that test results are consistent.

Although exempt from the notice and comment requirements of the Administrative Procedure Act (5 U.S.C. of 553(b), (c)) regarding proposed rulemaking by 39 U.S.C. 410(a), the Postal Service invites public comment on the following proposed revisions to the DMM, incorporated by reference in the Code of Federal Regulations. See 39 CFR 111.1.

List of Subjects in 39 CFR Part 111

Administrative practice and procedure, Postal Service.

Part 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below.

C Characteristics and Content

C000 General Information

C010 General Mailability Standards

* * * * *

[Delete 7.0, Mailing Test Packages.]

* * * * *

C050 Mail Processing Categories

* * * * *

4.0 MACHINABLE PARCEL

* * * * *

4.3 Exception

[Revise 4.3 to read as follows:]

Some parcels may be successfully processed on BMC parcel sorters even though they do not conform to the general machinability criteria in 4.1. The manager, BMC Operations, USPS Headquarters (see G043 for address) may authorize a mailer to enter such parcels as machinable parcels rather than irregular parcels if the parcels are tested on BMC parcel sorters and prove to be machinable. Mailers who wish to have parcels tested for machinability on USPS parcel sorting machines must:

a. Submit a written request to BMC Operations. The request must list mailpiece characteristics for every shape, weight, and size to be considered. If the letter requesting testing describes a mailpiece that falls within the specifications of pieces that were tested previously, they will not be tested.

b. Describe mailpiece construction, parcel weight(s), estimated number of parcels to be mailed in the coming year, and preparation level (e.g., destination BMC pallets).

c. Send 100 samples to the test facility designated by the manager, BMC Operations at least 6 weeks prior to the first mailing date. The manager, BMC Operations will recommend changes, to ensure machinability, for parcels that do not qualify.

* * * * *

6.0 OUTSIDE PARCEL (NONMACHINABLE)

[Revise the first sentence to read as follows:]

An outside parcel is a parcel that exceeds any of the maximum dimensions for a machinable parcel. * * *

* * * * *

G General Information

G000 The USPS and Mailing Standards

* * * * *

G040 Information Resources

* * * * *

G043 Address List for Correspondence

[Add the following address:]

BMC OPERATIONS, US POSTAL SERVICE,E 475 L'ENFANT PLZ SW RM 7631, WASHINGTON DC 20260-2806.

* * * * *

We will publish an appropriate amendment to 39 CFR part 111 to reflect the changes if the proposal is adopted.

Neva R. Watson,
Attorney, Legislative.

[FR Doc. 04-3657 Filed 2-19-04; 8:45 am]

BILLING CODE 7710-12-M